FEDERAL COMMUNICATIONS COMMISSION

[DA 12-1616]

Consumer Advisory Committee

AGENCY: Federal Communications Commission.

ACTION: Notice.

SUMMARY: The Commission announces the next meeting date, time, and agenda of its Consumer Advisory Committee (Committee). The purpose of the Committee is to make recommendations to the Commission regarding matters within the jurisdiction of the Commission and to facilitate the participation of all consumers in proceedings before the Commission.

DATES: The next meeting of the Committee will take place on Friday, November 2, 2012, 9:00 a.m. to 4:00 p.m., at the Commission's Headquarters Building, Commission Meeting Room, TW-C305.

ADDRESSES: Federal Communications Commission, 445 12th Street SW., Washington, DC 20554.

FOR FURTHER INFORMATION CONTACT: Scott Marshall, Consumer and Governmental Affairs Bureau, (202) 418-2809 (Voice or Relay), or email Scott.Marshall@fcc.gov.

SUPPLEMENTARY INFORMATION: This is a summary of the Commission's document DA 12-1616 released October 11, 2012, announcing the agenda, date and time of the Committee's next meeting.

Meeting Agenda

At its November 2, 2012 meeting, it is expected that the Committee will consider a recommendation from its Disability Working Group concerning updating of the Commission's rules regarding Speech-to-Speech Relay Service (including implementation of video Speech-to-Speech Relay Service). A second recommendation for the Committee's consideration, also proposed by its Disability Working Group, urges the Commission to include people with disabilities, low income, and underserved populations in its Mobile Health (mHealth) initiative. In addition, the Committee's Media Working Group is expected to offer a recommendation to the Committee regarding disclosure in political advertising. The Committee may also consider other recommendations from its working groups, and may also receive briefings from FCC staff and outside speakers on matters of interest to the Committee. A limited amount of time will be available on the agenda for questions and comments from the public.

Meetings of the Committee are also broadcast live with open captioning over the Internet from the FCC Live web page at www.fcc.gov/live/.

Simultaneous with the webcast, the meeting will be available through Accessible Event, a service that works with a web browser to make presentations accessible to people with disabilities. Persons wishing to attend through Accessible Event can listen to the audio and use a screen reader to read displayed documents, and can watch the video with open captioning. The Web site to access Accessible Event is http://accessibleevent.com. The web page prompts for an Event Code which is: 005202376. To learn about the features of Accessible Event, consult its User's Guide at: http://accessibleevent.com/doc/user_guide/.

The public may ask questions of presenters via email at livequestions@fcc.gov or via Twitter using the hashtab #fcclive. In addition, the public may also follow the meeting on Twitter @fcc or via the Commission's Facebook page at www.facebook.com/fcc.

Alternatively, written comments to the Committee may be sent to: Scott Marshall, Designated Federal Officer of the Committee at the address provided above.

The meeting is open to the public and the site is fully accessible to people using wheelchairs or other mobility aids. Sign language interpreters, open captioning, assistive listening devices, and Braille copies of the agenda and handouts will be provided on site.

Other reasonable accommodations for people with disabilities are available upon request. The request should include a detailed description of the accommodation needed and contact information. Please provide as much advance notice as possible; last minute requests will be accepted, but may be impossible to fill. Send an email to fcc504@fcc.gov or call the Consumer and Governmental Affairs Bureau at 202-418-0530 (voice), 202-418-0432 (TTY).

Federal Communications Commission.
Kris Anne Monteith,
Acting Chief, Consumer and Governmental Affairs Bureau.

[FR Doc. 2012-25565 Filed 10-16-12; 8:45 am]

BILLING CODE 6712-01-P